ENVIRONMENTAL PROTECTION AGENCY

[FRL-7007-8]

Agency Information Collection Activities: Submission for OMB Review; Comment Request; State Small Business Stationary Source Technical and Environmental Compliance Assistance Program (SBTCP) Under the Clean Air Act as Amended in 1990

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: State Small Business Stationary Source Technical and Environmental Compliance Assistance Program Annual Reporting Form, OMB Control Number 2060-0337, expiration date September 30, 2001. The ICR describes the nature of the information collection and its expected burden and cost; where appropriate, it includes the actual data collection instrument.

DATES: Comments must be submitted on or before August 6, 2001.

ADDRESSES: Send comments, referencing EPA ICR No. 1748.03 and OMB Control No. 2060-0337, to the following addresses: Sandy Farmer, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1748.03. For technical questions about the ICR contact Angela Suber at 202-260-7205.

SUPPLEMENTARY INFORMATION Title: State Small Business Stationary Source Technical and Environmental Compliance Assistance Program Annual Reporting Form, OMB Control Number 2060-0337, EPA ICR Number 1748.03, expiration date September 30, 2001. This is an extension of a currently approved collection.

Abstract: As part of the Clean Air Act Amendments of 1990, the U.S. Congress included, as part of Section 507, the requirement that each state establish a Small Business Stationary Source Technical and Environmental Compliance Assistance Program (SBTCAP) to assist small businesses in complying with the Act. EPA must provide the Congress with periodic reports from the EPA Small Business Ombudsman (SBO) on these programs, including their effectiveness, difficulties encountered, and other relevant information. Each state assistance program will submit requested information to EPA for compilation and summarization.

This collection of information is mandatory under Section 507(a), (d), and (e) of the Clean Air Act as amended in 1990, Public Law 101-549, November 15, 1990. This Act directs EPA to monitor the SBTCPs and to provide a report to Congress. This responsibility has been delegated to the EPA SBO. Response to the collection is not required to obtain or retain a benefit. Information in the annual Report to Congress is aggregated and is not of a confidential nature. None of the information collected by this action results in or requests sensitive information of any nature from the states.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 27, 2001, (66 FR16671); no comments were received.

Burden Statement: The annual public reporting and record keeping burden for this collection of information is estimated to average 80 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: state, local, or tribal government.

Estimated Number of Respondents: 53.

Frequency of Response: Annual.

Estimated Total Annual Hour Burden: 2120 hours.

Estimated Total Annualized Capital, O&M Cost Burden: 0

Send comments on the Agency's need for this information, the accuracy of the provided burden estimates, and any suggested methods for minimizing respondent burden, including through the use of automated collection techniques to the following addresses. Please refer to EPA ICR No 1748.03 and OMB Control No. 2060-0337 in any correspondence.

Dated: June 25, 2001.
Oscar Morales,
Director, Collection Strategies Division.

[FR Doc. 01-16945 Filed 7-5-01; 8:45 am]

BILLING CODE 6560-50-P